POSTAL SERVICE

39 CFR Part 20

International Mailing Services: Mailing Services Rules Changes

AGENCY: Postal Service™.

ACTION: Advance notice of proposed rulemaking; request for comments.

SUMMARY: The Postal Service is considering limiting First-Class Mail International® service to documents only.

DATES: Comments on this advance notice are due July 17, 2017.

ADDRESSES: Mail or deliver written comments to the manager, Product Classification, U.S. Postal Service, 475 L'Enfant Plaza SW., Room 4446, Washington, DC 20260-5015. You may inspect and photocopy all written comments at USPS® Headquarters Library, 475 L'Enfant Plaza SW., 11th Floor North, Washington, DC, by appointment only between the hours of 9 a.m. and 4 p.m., Monday through Friday. Call 1-202-268-2906 in advance for an appointment. Email comments, containing the name and address of the commenter, may be sent to: ProductClassification@usps.gov, with a subject line of “First-Class Mail International.” Faxed comments are not accepted.

FOR FURTHER INFORMATION CONTACT: Mico Milanovic at (202) 268-5348 or Sylvia Baylis at (202) 268-6464.

SUPPLEMENTARY INFORMATION: This is an advance notice of the Postal Service's intent to modify some of its International Mailing rules to conform with the new Universal Postal Union (UPU) requirements for certain Letter Post mail, effective January 1, 2018. After lengthy deliberations, UPU member countries voted to identify and separate items by content as documents versus goods, for purposes of adopting a universal, world-wide standard.

In order for the Postal Service to meet this new standard, the contents of First-Class Mail International postcard, letter, and large envelope (flat) mail; International Priority Airmail (IPA) postcard, letter, and large envelope (flat) mail; and International Surface Air Lift (ISAL) postcard, letter, and large envelope (flat) mail will be limited to documents.

Effective January 1, 2018, mailers who wish to mail any type of goods, regardless of shape, must use First Class Package International Service or another available service. Technical details and proposed IMM changes will be published at a later date and before implementation.

Stanley F. Mires,
Attorney, Federal Compliance.

[FR Doc. 2017-11120 Filed 5-30-17; 8:45 am]

BILLING CODE 7710-12-P